DEPARTMENT OF TRANSPORTATION

Federal Aviation Administration

14 CFR Part 39

[Docket No. FAA-2007-0266; Directorate Identifier 2007-NM-170-AD; Amendment 39-15576; AD 2008-13-13]

RIN 2120-AA64

Airworthiness Directives; Airbus Model A330 Airplanes and Model A340-200 and -300 Series Airplanes

AGENCY: Federal Aviation Administration (FAA), DOT.

ACTION: Final rule.

SUMMARY: We are adopting a new airworthiness directive (AD) for certain Airbus Model A330 airplanes and Model A340-200 and -300 series airplanes. This AD requires revising the airplane flight manual (AFM) to prohibit the flightcrew from performing CAT 2 and CAT 3 automatic landings and roll-outs at certain airports. This AD also provides an optional terminating action for the AFM revision. This AD results from data showing that the magnetic variation table installed in certain Honeywell and Northrop Grumman air data inertial reference units (ADIRUs) is obsolete at certain airports. We are issuing this AD to prevent the airplane from departing the runway during a CAT 2 or CAT 3 automatic landing or roll-out, due to differences between actual magnetic variation and the values in the ADIRU magnetic variation tables.

DATES: This AD is effective August 12, 2008.

The Director of the Federal Register approved the incorporation by reference of certain publications listed in this AD as of August 12, 2008.

ADDRESSES: For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Discussion

We issued a notice of proposed rulemaking (NPRM) to amend 14 CFR part 39 to include an airworthiness directive (AD) that would apply to certain Airbus Model A330 series airplanes and Model A340-200 and -300 series airplanes. That NPRM was published in the Federal Register on December 3, 2007 (72 FR 67868). That NPRM proposed to require revising the airplane flight manual (AFM) to prohibit the flightcrew from performing CAT 2 and CAT 3 automatic landings and roll-outs at certain airports. That NPRM also proposed to provide an optional terminating action for the AFM revision.

Comments

We gave the public the opportunity to participate in developing this AD. We considered the comment received from the commenter.

Request To Refer to Additional Service Information

Mr. Jean-Dominique Bouton states that the “Optional Terminating Action” paragraph does not include the latest air data inertial reference unit (ADIRU) standards, which can be installed in place of the older standards addressed by the NPRM. The commenter identifies the following service bulletins as optional terminating actions to the AFM revision: Airbus Service Bulletin A330-34-3183, dated June 16, 2006; Airbus Service Bulletin A330-34-3191, dated March 16, 2007; Airbus Service Bulletin A340-34-4173, dated June 16, 2006; and Airbus Service Bulletin A340-34-4180, dated March 16, 2007. As justification, the commenter states that these service bulletins include the latest ADIRU standards, which can be installed in place of the older standards addressed by this AD.

We infer the commenter requests that we revise paragraph (i) of this AD by including the service bulletins identified above. We agree to add Airbus Service Bulletin A330-34-3183 to paragraph (i)(2) of this AD, and Airbus Service Bulletin A340-34-4173 to paragraph (i)(4) of this AD. Airbus Service Bulletin A330-34-3183 incorporates a later ADIRU standard than the one specified in Airbus Service Bulletin A330-34-3159, dated February 10, 2005, which is identified as a terminating action in paragraph (i)(2) of this AD. Airbus Service Bulletin A340-34-4173 also incorporates a later ADIRU standard than the one specified in Airbus Service Bulletin A340-34-4163, dated February 10, 2005, which is identified as a terminating action in paragraph (i)(4) of this AD. The later ADIRU standard builds on the earlier standard and introduces general improvements and a new magnetic variation table. The service bulletin for the later ADIRU standard has the earlier service bulletin as a concurrent requirement.

However, we do not agree to add Airbus Service Bulletin A330-34-3191 and Airbus Service Bulletin A340-34-4180 to paragraph (i) of this AD because those service bulletins do not have the service bulletin for the earlier standard as a concurrent requirement. We refer to European Aviation Safety Agency airworthiness directive 2006-0232, dated August 7, 2006, as related information in paragraph (k) of this AD. However, under the provisions of paragraph (j) of this AD, we will consider requests for approval of an alternative method of compliance if sufficient data are submitted to substantiate that the design change would provide an acceptable level of safety. We have not changed this AD in this regard.

Conclusion

We reviewed the relevant data, considered the comment received, and determined that air safety and the public interest require adopting the AD with the change described previously. We also determined that this change will not increase the economic burden on any operator or increase the scope of the AD.

Costs of Compliance

This AD affects about 40 airplanes of U.S. registry. The required actions take about 1 work hour per airplane, at an average labor rate of $80 per work hour. Based on these figures, the estimated cost of the AD for U.S. operators is $3,200, or $80 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-13-13 Airbus: Amendment 39-15576. Docket No. FAA-2007-0266; Directorate Identifier 2007-NM-170-AD.

Effective Date

(a) This airworthiness directive (AD) is effective August 12, 2008.

Affected ADs

(b) None.

Applicability

(c) This AD applies to Airbus Model A330-200, A330-300, A340-200, and A340-300 series airplanes, certificated in any category; equipped with the air data inertial reference units (ADIRUs) identified in paragraphs (c)(1) and (c)(2) of this AD.

(1) Honeywell ADIRUs having part numbers (P/Ns) HG2030AC0X (where X is any number between 0 and 9 inclusive) and P/Ns HG2030ADYY (where YY is any number between 00 and 10 inclusive).

(2) Northrop Grumman (formerly Litton) ADIRUs having P/Ns 465020-030303ZZ (where ZZ is any number between 00 and 12 inclusive).

Unsafe Condition

(d) This AD results from data showing that the magnetic variation table installed in certain Honeywell and Northrop Grumman ADIRUs is obsolete at certain airports. We are issuing this AD to prevent the airplane from departing the runway during a CAT 2 or CAT 3 automatic landing or roll-out, due to differences between actual magnetic variation and the values in the ADIRU magnetic variation tables.

Compliance

(e) You are responsible for having the actions required by this AD performed within the compliance times specified, unless the actions have already been done.

Temporary Revision (TR) References

(f) The term “Temporary Revision,” as used in this AD, means the following TRs, as applicable:

(1) For Model A330-200 and A330-300 series airplanes equipped with any Honeywell ADIRU identified in paragraph (c)(1) of this AD: Airbus TR 2.05.00/67, Issue 2, dated September 19, 2007, to the Airbus A330 Airplane Flight Manual (AFM);

(2) For Model A330-200 and A330-300 series airplanes equipped with any Northrop Grumman ADIRU identified in paragraph (c)(2) of this AD: Airbus TR 2.05.00/68, dated March 31, 2006, to the Airbus A330 AFM;

(3) For Model A340-200 and A340-300 series airplanes equipped with any Honeywell ADIRU identified in paragraph (c)(1) of this AD: Airbus TR 2.05.00/87, Issue 2, dated September 19, 2007, to the Airbus A340 AFM; and

(4) For Model A340-200 and A340-300 series airplanes equipped with any Northrop Grumman ADIRU identified in paragraph (c)(2) of this AD: Airbus TR 2.05.00/88, dated March 31, 2006, to the Airbus A340 AFM.

AFM Revision

(g) Within 14 days after the effective date of this AD, revise the Limitations Section of the Airbus A330 or A340 AFM, as applicable, to prohibit the flightcrew from performing CAT 2 and CAT 3 automatic landings and roll-outs at certain airports by incorporating the applicable Temporary Revision into the AFM. Operate the airplane according to the limitations in the applicable TR.

(h) When the information in the applicable TR has been incorporated into the general revisions of the Airbus A330 or A340 AFM, as applicable, the general revisions may be inserted into the AFM, and the TR may be removed from the AFM.

Optional Terminating Action

(i) Replacing the ADIRUs with new, improved ADIRUs as specified in paragraph (i)(1), (i)(2), (i)(3), or (i)(4) of this AD terminates the AFM revision required by paragraph (g) of this AD.

(1) For Model A330-200 and A330-300 series airplanes equipped with any Honeywell ADIRU identified in paragraph (c)(1) of this AD, doing the replacement in accordance with the Accomplishment Instructions of Airbus Service Bulletin A330-34-3104, dated July 17, 2003; or Airbus Service Bulletin A330-34-3165, dated June 28, 2006.

(2) For Model A330-200 and A330-300 series airplanes equipped with any Northrop Grumman ADIRU identified in paragraph (c)(2) of this AD, doing the replacement in accordance with the Accomplishment Instructions of Airbus Service Bulletin A330-34-3132, dated December 16, 2003, or Revision 01, dated August 18, 2004; Airbus Service Bulletin A330-34-3159, dated February 10, 2005; or Airbus Service Bulletin A330-34-3183, dated June 16, 2006.

(3) For Model A340-200 and A340-300 series airplanes equipped with any Honeywell ADIRU identified in paragraph (c)(1) of this AD, doing the replacement in accordance with the Accomplishment Instructions of Airbus Service Bulletin A340-34-4114, dated July 17, 2003; or Airbus Service Bulletin A340-34-4166, dated June 28, 2006.

(4) For Model A340-200 and A340-300 series airplanes equipped with any Northrop Grumman ADIRU identified in paragraph (c)(2) of this AD, doing the replacement in accordance with the Accomplishment Instructions of Airbus Service Bulletin A340-34-4141, dated December 16, 2003, or Revision 01, dated August 18, 2004; Airbus Service Bulletin A340-34-4163, dated February 10, 2005; or Airbus Service Bulletin A340-34-4173, dated June 16, 2006.

Alternative Methods of Compliance (AMOCs)

(j)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) European Aviation Safety Agency airworthiness directive 2006-0232, dated August 7, 2006, also addresses the subject of this AD.

Material Incorporated by Reference

(l) You must use the applicable service information contained in Table 1 of this AD to do the actions required by this AD, unless the AD specifies otherwise. If you do the optional actions specified in this AD, you must use the applicable service information contained in Table 2 of this AD to do those actions, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies of the service information incorporated by reference at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Table 1.—Material Incorporated by Reference for Required Actions
Service Information | Issue | Date
Airbus Temporary Revision 2.05.00/67 to the Airbus A330 Airplane Flight Manual | 2 | September 19, 2007.
Airbus Temporary Revision 2.05.00/68 to the Airbus A330 Airplane Flight Manual | Original | March 31, 2006.
Airbus Temporary Revision 2.05.00/87 to the Airbus A340 Airplane Flight Manual | 2 | September 19, 2007.
Airbus Temporary Revision 2.05.00/88 to the Airbus A340 Airplane Flight Manual | Original | March 31, 2006.

Table 2.—Material Incorporated by Reference for Optional Actions
Service Information | Issue | Date
Airbus Service Bulletin A330-34-3104 | Original | July 17, 2003.
Airbus Service Bulletin A330-34-3132 | Original | December 16, 2003.
Airbus Service Bulletin A330-34-3132 | 01 | August 18, 2004.
Airbus Service Bulletin A330-34-3159 | Original | February 10, 2005.
Airbus Service Bulletin A330-34-3165 | Original | June 28, 2006.
Airbus Service Bulletin A330-34-3183 | Original | June 16, 2006.
Airbus Service Bulletin A340-34-4114 | Original | July 17, 2003.
Airbus Service Bulletin A340-34-4141 | Original | December 16, 2003.
Airbus Service Bulletin A340-34-4141 | 01 | August 18, 2004.
Airbus Service Bulletin A340-34-4163 | Original | February 10, 2005.
Airbus Service Bulletin A340-34-4166 | Original | June 28, 2006.
Airbus Service Bulletin A340-34-4173 | Original | June 16, 2006.

Issued in Renton, Washington, on June 13, 2008.
Ali Bahrami,
Manager, Transport Airplane Directorate, Aircraft Certification Service.

[FR Doc. E8-14468 Filed 7-7-08; 8:45 am]

BILLING CODE 4910-13-P